COMMITTEE FOR PURCHASE FROM PEOPLE WHO ARE BLIND OR SEVERELY DISABLED

Suspension of Effective Date

In the document appearing on page 15287, FR Doc 05-5961, in the issue of March 25, 2005, in the first column, the Committee published an effective date of April 24, 2005 for addition of the Base Supply Center & Individual Equipment Element, Hill Air Force Base, Utah to the Procurement List. This effective date has been suspended until further notice.

Sheryl D. Kennerly,
Director, Information Management.

[FR Doc. E5-1624 Filed 4-7-05; 8:45 am]

BILLING CODE 6353-01-P